DEPARTMENT OF JUSTICE

Notice of Lodging of Proposed Consent Decree Under the Clean Water Act

On December 24, 2013, the Department of Justice lodged a proposed Consent Decree with the United States District Court for the Southern District of Indiana in the lawsuit entitled United States of America and the State of Indiana v. City of Crawfordsville, Montgomery County, Indiana 1:13-cv-1964.

The complaint in this matter alleges that the City of Crawfordsville (“City”) has violated the Clean Water Act, because discharges from the City's wastewater treatment plant have violated conditions of the National Pollutant Discharge Elimination System permit (“Permit”) issued by the Indiana Department of Environmental Management. The Permit imposes effluent limitations on copper and other pollutants and includes requirements for proper operation, maintenance, and monitoring of the treatment plant. The Consent Decree requires the City to undertake general improvements at the treatment plant, including measures involving the pretreatment of wastewater. The Consent Decree also requires the City to pay a total penalty of $96,000, to be split evenly between the State and the federal government.

The publication of this notice opens a period for public comment on the Consent Decree. Comments should be addressed to the Assistant Attorney General, Environment and Natural Resources Division, and should refer to United States of America and the State of Indiana v. City of Crawfordsville, Montgomery County, Indiana, D.J. Ref. No. 90-5-1-1-09648.

All comments must be submitted no later than thirty (30) days after the publication date of this notice. Comments may be submitted either by email or by mail:

To submit comments: | Send them to:
By e-mail | pubcomment-ees.enrd@usdoj.gov.
By mail | Acting Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Maureen Katz,
Assistant Section Chief, Environmental Enforcement Section, Environment and Natural Resources Division.

[FR Doc. 2013-31199 Filed 12-27-13; 8:45 am]

BILLING CODE 4410-15-P